DEPARTMENT OF LABOR

Employment and Training Administration

[TA-W-52,099]

Sony Semiconductor Company, Including Workers of BOC Edwards and Leased Workers of Manpower Professionals, San Antonio, TX; Amended Certification Regarding Eligibility To Apply for Worker Adjustment Assistance

In accordance with Section 223 of the Trade Act of 1974 (19 U.S.C. 2273) the Department of Labor issued a Certification of Eligibility to Apply for Worker Adjustment Assistance on July 17, 2003, applicable to workers of Sony Semiconductor Company, including leased workers from Manpower Processionals, San Antonio, Texas. The notice was published in the Federal Register on August 5, 2003 (68 FR 46231).

At the request of the company, the Department reviewed the certification for workers of the subject firm. Information provided by the company shows that workers of BOC Edwards were employed at Sony Semiconductor Company to maintain wet and dry pumps used in the equipment needed to produce semiconductor wafers at the San Antonio, Texas location of the subject firm.

Based on these findings, the Department is amending this certification to include workers of BOC Edwards, San Antonio, Texas working at Sony Semiconductor Company, San Antonio, Texas.

The intent of the Department's certification is to include all workers of Sony Semiconductor Company who were adversely affected by increased imports of semiconductor wafers.

The amended notice applicable to TA-W-52,099 is hereby issued as follows:

• All workers of Sony Semiconductor Company, San Antonio, Texas, including workers of BOC Edwards working at Sony Semiconductor Company, San Antonio and leased workers of Manpower Processional, working at Sony Semiconductor, San Antonio, Texas, engaged in employment related to the production of semiconductor wafers at Sony Semiconductor Company, San Antonio, Texas, who became totally or partially separated from employment on or after June 18, 2002, through July 17, 2005, are eligible to apply for adjustment assistance under Section 223 of the Trade Act of 1974.

Signed at Washington, DC this 23rd day of October, 2003.
Elliott S. Kushner,
Certifying Officer, Division of Trade Adjustment Assistance.

[FR Doc. 03-29276 Filed 11-21-03; 8:45 am]

BILLING CODE 4510-30-P